DEPARTMENT OF LABOR

Employment and Training Administration

[TA-W-37,967]

Reliable Exploration, Inc., Billings, MT; Notice of Termination of Investigation

Pursuant to section 221 of the Trade Act of 1974, an investigation was initiated on August 14, 2000, in response to a petition filed by a company official on behalf of workers at Reliable Exploration, Incorporated, Billings, Montana.

The company official submitting the petition has requested that the petition be withdrawn. Consequently, further investigation in this case would serve no purpose, and the investigation has been terminated.

Signed in Washington, DC, this 22nd day of August, 2000.
Grant D. Beale,
Program Manager, Division of Trade Adjustment Assistance.

[FR Doc. 00-23510 Filed 9-12-00; 8:45 am]

BILLING CODE 4510-30-M